ENVIRONMENTAL PROTECTION AGENCY

[FRL-7787-1]

Notice of Review of Water Quality Indicators and/or Rapid Measurement Technology

AGENCY: U.S. Environmental Protection Agency, National Health and Environmental Effects Research Laboratory.

ACTION: Notice.

SUMMARY: This review will be conducted, and the information collected, by the Epidemiology and Biomarkers Branch, Human Studies Division, National Health and Environmental Effects Research Laboratory, Office of Research and Development, U.S. Environmental Protection Agency (EPA). Product information packages collected for review are strictly voluntary. This notice is a result of Section 3(a)(v)(1) of the Beaches Environmental Assessment and Coastal Health Act of 2000 and the strategic plan for EPA's Office of Research and Development (ORD) and the Office of Water entitled “Action Plan for Beaches and Recreational Water.”

Current EPA guidelines (Section 303(c) Clean Water Act) recommend the use of cultural methods for E. coli and enterococci to measure recreational water quality. These methods produce results in 24 hours creating a delayed response for recreational water managers. This shortcoming in the current practices for measuring recreational water quality has led EPA to consider new technology and indicators that will provide rapid measurement of water quality (preferably 2 hours or less). This will give vendors the opportunity to showcase technology and determine needs for current industry.

Packages submitted should include the following information (if applicable):

1. Cost of the equipment/instrument?

2. Cost of supplies per test (List items needed with individual cost)?

3. Commercially available? How long has it been on the market? Are supplies commercially available?

4. Shipping time?

5. Is it portable? Laboratory or field use?

6. Skill level for operators? Do they need special training? Is it included in purchase?

7. Computer needed? Is it included? Specifications?

8. Specificity for target organisms? False-positive and false-negative rates?

9. Limit of detection?

10. Types of samples tested (primarily, but not limited to, types of water samples)?

11. Volume of sample required?

12. Detect live organisms?

13. Developed/validated method or experimental method?

14. Analysis time for one sample?

15. Preparation time for one sample?

16. How many samples can be analyzed per day?

17. Quality control procedures?

18. Is the system sterile? Cleaning and sanitization procedures?

19. References where equipment/instrument was used?

20. Data form (tables, graphs, etc.) and examples?

21. Can data be stored in the equipment/instrument, if portable?

22. Include brochures and pictures/photos/schematics.

23. Warranty and repair services?

24. Any distinctive elements that uniquely qualify this instrument or methods above others.

DATES: Review of information packages will begin on July 30, 2004. All interested parties should submit packages on or before March 31, 2005.

FOR FURTHER INFORMATION CONTACT: Elizabeth Sams, (919), 843-3161, FAX: (919) 966-0655, E-mail: sams.elizabeth@epa.gov, or by mailing a request Elizabeth Sams, U.S. EPA (MD 58-C), Research Triangle Park, NC 27711.

Dated: June 1, 2004.
Harold Zenick,
Associate Director for Health, Office of Research and Development.

[FR Doc. 04-15947 Filed 7-13-04; 8:45 am]

BILLING CODE 6560-50-P